DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Triangular Transactions Covered by a U.S. Import Certificate.

OMB Control Number: 0694-0009.

Form Number(s): N/A.

Type of Request: Regular submission (extension of a currently approved information collection).

Burden Hours: 30 minutes.

Number of Respondents: 1 respondent

Average Hours per Response: 30 minutes.

Needs and Uses: This collection of information provides a means to authorize approved imports to the U.S. to be transhipped to another destination instead of being imported to the U.S. as approved on an International Import Certificate. A triangular symbol is stamped on import certificates as notification that the importer does not intend to import or retain the items in the country issuing the certificate, but that, in any case, the items will not be delivered to any other destination except in accordance with the Export Administration Regulations.

Affected Public: Businesses and other for-profit organizations.

Frequency: On occasion.

Respondent's Obligation: Required to obtain or retain benefits.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Jasmeet Seehra, OMB Desk Officer, via the Internet at Jasmeet_K._Seehra@omb.eop.gov, or fax to (202) 395-5167.

Dated: December 17, 2013.
Gwellnar Banks,
Management Analyst, Office of the Chief Information Officer.

[FR Doc. 2013-30296 Filed 12-19-13; 8:45 am]

BILLING CODE 3510-33-P